DEPARTMENT OF ENERGY

Federal Energy Regulatory Commission

[Project No. 3251-010]

Cornell University; Notice Soliciting Scoping Comments

Take notice that the following hydroelectric application has been filed with the Commission and is available for public inspection.

a. Type of Application: New Major License.

b. Project No.: 3251-010.

c. Date Filed: June 28, 2019.

d. Applicant: Cornell University.

e. Name of Project: Cornell University Hydroelectric Project (Cornell Project).

f. Location: On Fall Creek within the Cornell University campus in the City of Ithaca, Tompkins County, New York. The project does not occupy federal land.

g. Filed Pursuant to: Federal Power Act 16 U.S.C. 791(a)-825(r).

h. Applicant Contact: Mr. Frank Perry, Manager of Projects, Energy and Sustainability, Humphreys Service Building, Room 131, Cornell University, Ithaca, NY 14853-3701; (607) 255-6634; email—fdp1@cornell.edu.

i. FERC Contact: Christopher Millard at (202) 502-8256; or email at christopher.millard@ferc.gov.

j. Deadline for filing scoping comments: 30 days from the issuance date of this notice.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-3251-010.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The Cornell Project consists of: (1) An existing 28-foot-high, 260-foot-long reinforced-concrete gravity overflow-type dam, known as Beebe Lake Dam, with a crest elevation of 780.7 feet mean sea level (msl); (2) an impoundment (Beebe Lake) with a surface area of 16 acres and a storage capacity of 50 acre-feet at the normal pool elevation of 780.7 feet msl; (3) a concrete forebay wall and reinforced-concrete intake with a 6-foot-high, 6-foot-wide steel vertical-slide gate along the right (north) bank; (4) a 5-foot-diameter, 1,507-foot-long reinforced-concrete underground pipeline and a 5-foot-diameter, 200-foot-long riveted-steel underground penstock; (5) a 79-foot-long, 29-foot-wide, 24-foot-high powerhouse containing two Ossberger turbines and induction generators with a combined authorized capacity of 1,718 kilowatts; (6) a tailrace located on the river right-side of Fall Creek directly below the powerhouse; (7) a 385-foot-long, 2.4-kilovolt transmission line connecting to Cornell's distribution system; and (8) appurtenant facilities.

The Cornell Project is operated in a run-of-river mode and bypasses an 1,800-foot-long reach of Fall Creek that extends from the toe of the dam to the powerhouse tailrace. From 2013 through 2018, the average annual generation was 4,599 megawatt-hours.

m. A copy of the application is available for review at the Commission in the Public Reference Room or may be viewed on the Commission's website at http://www.ferc.gov using the “eLibrary” link. Enter the docket number excluding the last three digits in the docket number field to access the document. For assistance, contact FERC Online Support. A copy is also available for inspection and reproduction at the address in item h above.

n. You may also register online at http://www.ferc.gov/docs-filing/esubscription.asp to be notified via email of new filings and issuances related to this or other pending projects. For assistance, contact FERC Online Support.

o. Scoping Process: The Commission intends to prepare an environmental assessment (EA) for the Cornell Project in accordance with the National Environmental Policy Act. The EA will consider both site-specific and cumulative environmental impacts and reasonable alternatives to the proposed action.

Commission staff does not propose to conduct any on-site scoping meetings at this time. Instead, we are soliciting comments, recommendations, and information, on the Scoping Document 1 (SD1) issued December 13, 2019.

Copies of SD1 outlining the subject areas to be addressed in the EA were distributed to the parties on the Commission's mailing list. Copies of SD1 may be viewed on the web at http://www.ferc.gov using the “eLibrary” link. Enter the docket number excluding the last three digits in the docket number field to access the document. For assistance, call 1-866-208-3676 or for TTY, (202) 502-8659.

Dated: December 13, 2019.
Kimberly D. Bose,
Secretary.

[FR Doc. 2019-27417 Filed 12-18-19; 8:45 am]

BILLING CODE 6717-01-P